OFFICE OF PERSONNEL MANAGEMENT

Excepted Service

AGENCY: Office of Personnel Management.

ACTION: Notice.

SUMMARY: This gives notice of OPM decisions granting authority to make appointments under Schedules A, B and C in the excepted service as required by 5 CFR 6.6 and 213.103.

FOR FURTHER INFORMATION CONTACT: Deborah Grade, Director, Washington Services Branch, Center for Talent Services, Division for Human Resources Products and Services. (202) 606-5027.

SUPPLEMENTARY INFORMATION: Appearing in the listing below are the individual authorities established under Schedule C between January 1, 2004 and January 31, 2004. Future notices will be published on the fourth Tuesday of each month, or as soon as possible thereafter. A consolidated listing of all authorities as of June 30 is published each year.

Schedule A

No Schedule A appointments for January 2004.

Schedule B

No Schedule B appointments for January 2004.

Schedule C

The following Schedule C appointments were approved for January 2004:

Section 213.3303 Executive Office of the President

Office of National Drug Control Policy

QQGS00024 Legislative Analyst to the Chief of Staff. Effective January 07, 2004.

Office of the United States Trade Representative

TNGS00016 Public Affairs Specialist to the Chief of Staff. Effective January 26, 2004.

President's Commission on White House Fellowships.

WHGS00012 Staff Assistant (Office Automation) to the Director, President's Commission on White House Fellowships. Effective January 23, 2004.

Section 213.3304 Department of State

DSGS60724 Special Assistant to the Director, Office Resource Management/Office of Foreign Buildings Operations. Effective January 05, 2004.

DSGS60728 Legislative Management Officer to the Assistant Secretary for Legislative and Intergovernmental Affairs. Effective January 05, 2004.

DSGS60729 Legislative Management Officer to the Assistant Secretary for Legislative and Intergovernmental Affairs. Effective January 05, 2004.

DSGS60722 Protocol Officer (Visits) to the Deputy Chief of Protocol. Effective January 08, 2004.

DSGS60731 Staff Assistant to the Director, Policy Planning Staff. Effective January 14, 2004.

DSGS60732 Legislative Management Officer to the Assistant Secretary for Legislative and Intergovernmental Affairs. Effective January 20, 2004.

DSGS60733 Legislative Management Officer to the Assistant Secretary for Legislative and Intergovernmental Affairs. Effective January 20, 2004.

DSGS60734 Public Affairs Specialist to the Assistant Secretary for Public Affairs. Effective January 20, 2004.

DSGS60735 Foreign Affairs Officer to the Under Secretary for Arms Control and Security Affairs. Effective January 22, 2004.

DSGS60723 Senior Advisor to the Assistant Secretary for Western Hemispheric Affairs. Effective January 23, 2004.

DSGS60743 Special Assistant to the Assistant Secretary. Effective January 26, 2004.

DSGS60741 Special Assistant to the Under Secretary for Arms Control and Security Affairs. Effective January 27, 2004.

DSGS60739 Information Technology Specialist to the Assistant Secretary for Administration. Effective January 28, 2004.

DSGS60738 Special Assistant to the Assistant Secretary for Administration. Effective January 30, 2004.

Section 213.3305 Department of the Treasury

DYGS00439 Executive Secretary to the Chief of Staff. Effective January 21, 2004.

DYGS60277 Senior Writer to the Assistant Secretary (Public Affairs and Public Liaison). Effective January 21, 2004.

DYGS60404 Senior Advisor to the Assistant Secretary for Financial Institutions. Effective January 21, 2004.

Section 213.3306 Department of Defense

DDGS00788 Staff Assistant to the Principal Deputy Assistant Secretary of Defense (International Security Affairs). Effective January 13, 2004.

DDGS16675 Personal and Confidential Assistant to the Assistant Secretary of Defense (Reserve Affairs). Effective January 13, 2004.

DDGS16785 Staff Assistant to the Deputy Assistant Secretary of Defense (Asia and Pacific). Effective January 13, 2004.

DDGS16787 Defense Fellow to the Special Assistant to the Secretary of Defense for White House Liaison. Effective January 13, 2004.

DDGS16783 Special Assistant to the Assistant Secretary of Defense (Legislative Affairs). Effective January 14, 2004.

DDGS26020 Special Assistant to the Inspector General. Effective January 14, 2004.

Section 213.3310 Department of Justice

DJGS00199 Special Counsel to the Assistant Attorney General, Criminal Division. Effective January 05, 2004.

DJGS00320 Deputy Chief of Staff to the Chief of Staff. Effective January 29, 2004.

Section 213.3311 Department of Homeland Security

DMGS00151 Business Liaison to the Special Assistant. Effective January 07, 2004.

DMGS00181 Speechwriting Research Assistant to the Director of Speechwriting. Effective January 09, 2004.

DMGS00183 Director of Public Liaison to the Assistant Secretary for Public Affairs. Effective January 13, 2004.

DMGS00176 Staff Assistant to the Chief of Staff. Effective January 14, 2004.

DMGS00180 Confidential Assistant to the Deputy Secretary for the Department of Homeland Security. Effective January 14, 2004.

DMGS00188 Director of Legislative Affairs for Secretarial Offices to the Assistant Secretary for Legislative Affairs. Effective January 14, 2004.

DMOT00184 Director of Land, Maritime, and Cargo Security Policy to the Assistant Administrator for Transportation Security Policy. Effective January 14, 2004.

DMGS00173 Legislative Assistant to the Assistant Secretary for Legislative Affairs. Effective January 16, 2004.

DMGS00161 Director of Legislative Affairs for Emergency Preparedness and Response to the Chief of Staff. Effective January 22, 2004.

DMGS00186 Legislative Assistant to the Assistant Secretary for Legislative Affairs. Effective January 27, 2004.

DMGS00179 Deputy Press Secretary to the Assistant Secretary for Public Affairs. Effective January 29, 2004.

DMGS00185 Policy Advisor to the Deputy Chief of Staff (Policy). Effective January 29, 2004.

DMGS00190 Counsel to the General Counsel. Effective January 30, 2004.

Section 213.3313 Department of Agriculture

DAGS60160 Special Assistant to the Deputy Secretary. Effective January 13, 2004.

DAGS60162 Assistant to the Deputy Administrator for Commodity Operations. Effective January 13, 2004.

DAGS60163 Director Native American Programs to the Assistant Secretary for Congressional Relations. Effective January 13, 2004.

DAGS00300 Staff Assistant to the Administrator, Foreign Agricultural Service. Effective January 14, 2004.

Section 213.3314 Department of Commerce

DCGS00389 Senior Advisor to the Assistant Secretary for Import Administration. Effective January 23, 2004.

DCGS00534 Confidential Assistant to the Deputy Assistant Secretary for Transportation and Machinery. Effective January 23, 2004.

DCGS00326 Confidential Assistant to the Assistant Secretary for Market Access and Compliance. Effective January 29, 2004.

Section 213.3315 Department of Labor

DLGS60205 Deputy Director, 21st Century Workforce to the Director, 21st Century Workforce. Effective January 07, 2004.

DLGS60242 Special Assistant to the Assistant Secretary for Policy. Effective January 07, 2004.

DLGS60178 Counselor to the Deputy Secretary of Labor. Effective January 30, 2004.

Section 213.3316 Department of Health and Human Services

DHGS60062 Deputy Director of Legislation to the Director, Center for Disease Control and Prevention Administration. Effective January 05, 2004.

DHGS60344 Special Assistant for the Deputy Assistant Secretary for Legislation (Health). Effective January 23, 2004.

Section 213.3318 Environmental Protection Agency

EPGS03608 Deputy Scheduler to the Associate Assistant Administrator for Public Affairs. Effective January 14, 2004.

EPGS03611 Senior Advisor to the Administrator. Effective January 20, 2004.

EPGS10904 Special Assistant to the Administrator. Effective January 21, 2004.

Section 213.3323 Overseas Private Investment Corporation

PQGS03087 Confidential Assistant to the Chief of Staff. Effective January 13, 2004.

Section 213.3327 Department of Veterans Affairs

DVGS60071 Senior Advisor to the Deputy Secretary of Veterans Affairs. Effective January 27, 2004.

Section 213.3331 Department of Energy

DEGS00392 Chief of Staff to the Principal Deputy Assistant Secretary. Effective January 05, 2004.

DEGS00393 Policy Advisor to the Director, Office of Worker and Community Transition. Effective January 06, 2004.

DEGS00395 Special Assistant to the Secretary. Effective January 14, 2004.

DEGS00396 Senior Scheduler to the Director, Office of Scheduling and Advance. Effective January 16, 2004.

DEGS00397 Deputy Director of Scheduling and Operations to the Director, Office of Scheduling and Advance. Effective January 16, 2004.

DEGS00399 Special Assistant to the Director, Office of Economic Impact and Diversity. Effective January 30, 2004.

Section 213.3332 Small Business Administration

SBGS60030 Senior Advisor to the Associate Deputy Administrator for Government Contracting and Business Development to the Associate Deputy Administrator for Government Contracting and Business Development. Effective January 05, 2004.

SBGS60543 Associate Administrator for Policy to the Administrator. Effective January 08, 2004.

SBGS60544 Assistant Administrator for Policy to the Administrator. Effective January 15, 2004.

SBGS60181 Assistant Administrator for Field Operations to the Associate Administrator for Field Operations. Effective January 16, 2004.

SBGS60552 Assistant Administrator to the Associate Administrator for Congressional and Legislative Affairs. Effective January 20, 2004.

SBGS60112 Special Assistant to the Deputy Administrator. Effective January 23, 2004.

Section 213.3334 Federal Trade Commission

FTGS60001 Supervisory Public Affairs Specialist to the Chairman. Effective January 28, 2004.

Section 213.3342 Export-Import Bank

EBGS00064 Special Assistant to the Senior Vice President and Coordinator of Intergovernmental Affairs . Effective January 23, 2004.

Section 213.3357 National Credit Union Administration

CUOT01191 Executive Assistant to the Vice Chair. Effective January 29, 2004.

Section 213.3360 Consumer Product Safety Commission

PSGS60014 General Counsel to the Chairman, Consumer Product Safety Commission. Effective January 05, 2004.

Section 213.3384 Department of Housing and Urban Development

DUGS60288 Congressional Relations Assistant to the Assistant Secretary for Congressional and Intergovernmental Relations. Effective January 07, 2004.

DUGS60120 Staff Assistant to the Assistant Secretary for Public Affairs. Effective January 14, 2004.

DUGS60335 Assistant to the Deputy Assistant Secretary for Economic Development to the Deputy Assistant Secretary for Economic Affairs. Effective January 16, 2004.

Section 213.3394 Department of Transportation

DTGS60192 Special Assistant to the Assistant to the Secretary and Director of Public Affairs. Effective January 08, 2004.

DTGS60311 Scheduling/Advance Assistant to the Director for Scheduling and Advance. Effective January 23, 2004.

DTGS60316 Special Assistant to the Assistant Secretary for Aviation and International Affairs. Effective January 27, 2004.

Section 213.3396 National Transportation Safety Board

TBGS60030 Director of Government and Industry Affairs to the Chairman. Effective January 05, 2004.

TBGS60033 Director for Special Projects to the Chairman. Effective January 08, 2004.

Authority: 5 U.S.C. 3301 and 3302; E.O. 10577, 3 CFR 1954-1958 Comp., P.218.

Office of Personnel Management.
Kay Coles James,
Director.

[FR Doc. 04-3419 Filed 2-23-04; 8:45 am]

BILLING CODE 6325-01-P